DEPARTMENT OF STATE

[Public Notice 10960]

Notice of Determinations; Culturally Significant Objects Imported for Exhibition—Determinations: “Alonso Berruguete: First Sculptor of Renaissance Spain” Exhibition

SUMMARY: On September 5, 2019, notice was published on page 46772 of the Federal Register (volume 84, number 172) of determinations pertaining to certain objects to be included in an exhibition entitled “Alonso Berruguete: First Sculptor of Renaissance Spain.” Notice is hereby given of the following determinations: I hereby determine that certain additional objects to be exhibited in the exhibition “Alonso Berruguete: First Sculptor of Renaissance Spain,” imported from abroad for temporary exhibition within the United States, are of cultural significance. The objects are imported pursuant to loan agreements with the foreign owners or custodians. I also determine that the exhibition or display of the exhibit object at the Meadows Museum, Southern Methodist University, Dallas, Texas, from on or about March 29, 2020, until on or about July 26, 2020, and at possible additional exhibitions or venues yet to be determined, is in the national interest. I have ordered that Public Notice of these determinations be published in the Federal Register.

FOR FURTHER INFORMATION CONTACT: Chi D. Tran, Paralegal Specialist, Office of the Legal Adviser, U.S. Department of State (telephone: 202-632-6471; email: section2459@state.gov). The mailing address is U.S. Department of State, L/PD, SA-5, Suite 5H03, Washington, DC 20522-0505.

SUPPLEMENTARY INFORMATION: The foregoing determinations were made pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000.

Marie Therese Porter Royce,
Assistant Secretary, Educational and Cultural Affairs, Department of State.

[FR Doc. 2019-25755 Filed 11-26-19; 8:45 am]

BILLING CODE 4710-05-P